FEDERAL COMMUNICATIONS COMMISSION

Public Information Collections Approved by Office of Management and Budget

January 8, 2007.

SUMMARY: The Federal Communications Commission (Commission) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION: OMB Control No.: 3060-0168.

OMB Approval Date: 9/28/2006.

Expiration Date: 9/30/2009.

Title: Reports of Proposed Changes in Depreciation Rates—Section 43.43.

Form No.: N/A.

Estimated Annual Burden: 10 responses; 60,000 total annual burden hours.

Needs and Uses: Section 43.43 of the Commission's Rules requires certain carriers to file specified information before making any change in the depreciation rates applicable to their operating plants.

OMB Control No.: 3060-0233.

OMB Approval Date: 11/30/2006.

Expiration Date: 11/30/2009.

Title: Part 36—Separations.

Form No.: N/A.

Estimated Annual Burden: 5,788 responses; 58,418 total annual burden hours.

Needs and Uses: In order to determine which carriers are entitled to universal service support, all (both non-rural and rural) incumbent local exchange carriers (LECs) must provide the National Exchange Carrier Association (NECA) with the loop cost and loop count data required by section 36.611 for each of its study areas and, if applicable, for each wire center. Local telecommunications carriers who want to participate in the federal universal service support program must make certain informational showings to demonstrate eligibility.

Federal Communications Commission.
Marlene H. Dortch,
Secretary.

[FR Doc. E7-346 Filed 1-16-07; 8:45 am]

BILLING CODE 6712-01-P